DEPARTMENT OF COMMERCE

National Oceanic and Atmospheric Administration

RIN 0648-XP80

Endangered and Threatened Species; Take of Anadromous Fish

AGENCY: National Marine Fisheries Service (NMFS), National Oceanic and Atmospheric Administration (NOAA), Commerce.

ACTION: Notice; availability of fishery plan and request for comment.

SUMMARY: Notice is hereby given that the Oregon Department of Fish and Wildlife (ODFW) has submitted a Fishery Management and Evaluation Plan (FMEP) pursuant to the protective regulations promulgated for Oregon Coast (OC) coho salmon under the Endangered Species Act (ESA). The FMEP specifies the future management of freshwater inland recreational fisheries potentially affecting coho salmon on the Oregon coast. This document serves to notify the public of the availability of the FMEP for review and comment before final approval or disapproval is made by NMFS.

DATES: Comments on the FMEP must be received at the appropriate address or fax number (see ADDRESSES) no later than 5 p.m. Pacific daylight time on July 17, 2009.

ADDRESSES: Written comments on the application should be addressed to the NMFS Salmon Recovery Division, 2900 NW Stewart Parkway, Roseburg, OR 97471, or faxed to 541-957-3386. Comments may be submitted by e-mail. The mailbox address for providing e-mail comments is CohoFisheryPlan.nwr@noaa.gov. Include in the subject line of the e-mail comment the following identifier: Comments on Oregon's coho FMEP.

FOR FURTHER INFORMATION CONTACT: Lance Kruzic, Roseburg, Oregon, at phone number: (541) 957-3381, or e-mail: lance.kruzic@noaa.gov.

SUPPLEMENTARY INFORMATION:

Species Covered in This Notice

This notice is relevant to the Oregon Coast Coho Salmon (Oncorhynchus kisutch) evolutionarily significant unit (ESU).

ODFW has submitted to NMFS an FMEP entitled “Oregon Coastal Coho, Coastal Rivers Coho Sports Fishery.” This FMEP describes management of recreational fisheries for adult coho salmon in the bays and rivers within the OC Coho Salmon ESU. The objective of the fishery management described in this FMEP is to harvest unmarked coho salmon in a manner that does not exceed the harvest impact limits prescribed in the overarching harvest management plan for both ocean and freshwater fisheries that has already been approved under the ESA (i.e., the Pacific Fishery Management Council's Amendment 13 to the Pacific Salmon Plan). The impact levels on ESA-listed OC coho salmon are specified in the Amendment 13 harvest plan that has been implemented successfully since 1998. The proposed FMEP does not change in any way the existing Amendment 13 harvest plan for OC coho salmon, but could allow for additional freshwater harvest of coho salmon if specific conditions are met and the fishery impacts are still within the limits prescribed in Amendment 13. Population viability analyses and risk assessments conducted since this harvest management plan went into effect indicate the extinction risk for listed OC coho salmon would not increase as a result of the fishery impact levels. A variety of monitoring and evaluation tasks are specified in the FMEPs to assess the abundance of coho salmon, determine fishery effort and catch of coho salmon, and monitor angler compliance. A review of compliance within the provisions of the FMEP will be conducted by ODFW annually. Each year's upcoming recreational fishery management intentions will have to get NMFS concurrence beforehand to ensure compliance with the proposed FMEP.

As specified in the July 10, 2000, ESA 4(d) rule for salmon and steelhead (65 FR 42422) and updated June 28, 2005 (70 FR 37160), NMFS may approve an FMEP if it meets criteria set forth in 50 CFR 223.203(b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, July 28, 2005) specifies categories of activities that contribute to the conservation of listed salmonids and sets out the criteria for such activities. The rule further provides that the prohibitions of paragraph (a) of the rule do not apply to activities associated with fishery harvest provided that an FMEP has been approved by NMFS to be in accordance with the salmon and steelhead 4(d) rule (65 FR 42422, July 10, 2000, as updated in 70 FR 37160, July 28, 2005).

Dated: June 12, 2009.
Angela Somma,
Chief, Endangered Species Division, Office of Protected Resources, National Marine Fisheries Service.

[FR Doc. E9-14267 Filed 6-16-09; 8:45 am]

BILLING CODE 3510-22-S